DEPARTMENT OF THE TREASURY

Departmental Offices; Privacy Act of 1974, as Amended; Systems of Records

AGENCY: Office of Inspector General, Treasury.

ACTION: Notice of Alteration to a Privacy Act System of Records.

SUMMARY: In accordance with the requirements of the Privacy Act of 1974, as amended, 5 U.S.C. 552a, the Office of Inspector General (OIG) gives notice of alterations to its Privacy Act systems of records entitled “Treasury/DO .191—Human Resources and Administrative Records System.”

DATES: Comments must be received no later than August 29, 2011. The altered system of records will be effective September 6, 2011 unless the OIG receives comments that would result in a contrary determination.

ADDRESSES: Comments should be sent to Counsel to the Inspector General, Office of Counsel, Office of Inspector General, 740 15th Street, NW., Suite 510, Washington, DC 20220, Attention: Revisions to PA Systems of Records. Comments can be faxed to 202-927-6492, or e-mailed to delmarr@oig.treas.gov. For e-mails, please place “Revision to SOR” in the subject line. Comments will be made available for inspection upon written request. The Department will make such comments available for public inspection and copying at the above-listed location, on official business days between the hours of 9 a.m. and 5 p.m. Eastern Time. Persons wishing to inspect the comments submitted must request an appointment by telephoning 202-927-0650. All comments, including attachments and other supporting materials, received are part of the public record and subject to public disclosure. You should submit only information that you wish to make available publicly.

FOR FURTHER INFORMATION CONTACT: Richard K. Delmar, Counsel to the Inspector General, Office of Inspector General, 740 15th Street, NW., Washington, DC 20220, by phone at 202-927-3973, or by e-mail at DelmarR@oig.treas.gov.

SUPPLEMENTARY INFORMATION: Pursuant to the Privacy Act of 1974 (5 U.S.C. 552a) and the Office of Management and Budget (OMB) Circular No. A-130, the Office of Inspector General (OIG) completed a review of its Privacy Act system of records notice. As a result of the review, the OIG is proposing to add additional categories of individuals covered by the system; a new purpose; new language to routine use (1); an update on how the information is retrieved; designation of a new system manager and address; and new record source category to Treasury/DO .191 in order to perform necessary functions to prevent loss or damage to any party by reason of false or fictitious financial instruments or documents.

The notices were last published in their entirety on April 20, 2010. The proposed alterations to system of records Treasury/DO .191 entitled “Human Resources and Administrative Records system,” follow:

Treasury/DO .191

System Name:

Human Resources and Administrative Records System

* * * * *

Categories of individuals covered by the system:

Description of change: Remove current entry and in its place add the following:

“(A) Current and former employees of the Office of Inspector General.

(B) Individuals who are: Witnesses; complainants; confidential or non-confidential informants; suspects; defendants; parties who have been identified by the Office of Inspector General, constituent units of the Department of the Treasury, other agencies, or members of the general public, in connection with the authorized functions of the Inspector General.”

* * * * *

Purpose(s):

Description of change: The period “.” at the end of the paragraph is replaced with a semicolon “;”, and the following language is added at the end thereof: “and (4) collect and maintain information provided to the OIG concerning violation of any criminal or civil law made against or regarding individuals associated or claiming association with the Department of the Treasury.”

* * * * *

Routine uses of records maintained in the system, including categories of users and the purposes of such uses:

Description of change: The period “.” at the end of routine use (1) is replaced with a semicolon “;”, and the following language is added at the end thereof: “or to any private entity in order to prevent loss or damage to any party by reason of false or fictitious financial instruments or documents.”

* * * * *

Retrievability:

Description of change: After the second sentence, add the following sentence: “Financial instrument fraud database information may be accessed by name and address.”

* * * * *

System manager(s) and address:

Description of change: Remove the current text and add the following: “Assistant Inspector General for Management, 740 15th St. NW., Suite 510, Washington, DC 20220. For records provided by the general public concerning financial instrument fraud: Counsel to the Inspector General, 740 15th St., NW., Suite 510, Washington, DC 20220.”

* * * * *

Record source categories:

Description of change: The period “.” at the end of the paragraph is replaced with a semicolon “;”, and the following language is added at the end thereof: “persons providing information concerning or alleged to be committing financial instrument fraud.”

* * * * *

Dated: June 18, 2011.
Veronica Marco,
Acting Deputy Assistant Secretary for Privacy and Treasury Records.

[FR Doc. 2011-19121 Filed 7-27-11; 8:45 am]

BILLING CODE 4810-25-P